DEPARTMENT OF LABOR

Employment and Training Administration

Agency Information Collection Activities; Proposed Revision of a Currently Approved Collection; Request for Comments; Form ETA-9141, Application for Prevailing Wage Determination (OMB Control Number 1205-0508)

AGENCY: Employment and Training Administration (ETA), Labor.

ACTION: Notice and Request for Comment.

SUMMARY: The United States Department of Labor (Department), as part of its effort to streamline information collection, clarify statutory and regulatory requirements, and provide greater transparency and oversight of the labor certification programs, conducts a preclearance consultation program to provide the public and federal agencies with an opportunity to comment on proposed and/or continuing collections of information in accordance with the Paperwork Reduction Act of 1995 (PRA). This program helps ensure that requested data can be provided in the desired format, reporting burden (time and financial resources) is minimized, collection instruments are clearly understood, and the impact of collection requirements on respondents can be properly assessed.

In accordance with the PRA, ETA, within the Department, is providing the public notice and opportunity to comment on proposed revisions to the Form ETA-9141, Application for Prevailing Wage Determination, information collection.

The information collection for the existing form was approved on May 11, 2016, and expires on May 31, 2019.

DATES: Written comments must be submitted to the office listed in the addresses section below on or before April 15, 2019.

ADDRESSES: Requests for copies of this information collection request (ICR) and written comments on this proposed revision may be submitted to ETA's Office of Foreign Labor Certification by the following methods:

• Email (encouraged): ETA.OFLC.Forms@dol.gov.

• Mail: Thomas M. Dowd, Deputy Assistant Secretary, Employment and Training Administration, U.S. Department of Labor, 200 Constitution Avenue NW, Box PPII 12-200, Washington, DC 20210.

• Fax: 202-513-7395.

Instructions: Comments should identify the form or form instructions using the form number, ETA-9141, and should identify the particular area of the form or instructions for comment. Comments submitted in response to this comment request will be summarized and/or included in the request for Office of Management and Budget (OMB) approval of the ICR; they will also become a matter of public record. Commenters are encouraged not to submit sensitive information (e.g., confidential business information or personally identifiable information such as a social security number). A copy of the proposed ICR can be obtained by contacting the Office of Foreign Labor Certification as listed above.

FOR FURTHER INFORMATION CONTACT: Thomas M. Dowd, Deputy Assistant Secretary, Employment and Training Administration, U.S. Department of Labor, 200 Constitution Avenue NW, Box PPII 12-200, Washington, DC 20210, 202-513-7350 (this is not a toll-free number), or for individuals with hearing or speech impairments, 1-877-889-5627 (this is the TTY toll-free Federal Information Relay Service number).

SUPPLEMENTARY INFORMATION:

I. Background

This information collection is required by the Immigration and Nationality Act (INA), sections 103(a)(6); 203(b)(3); 212(a)(5)(A); 212(n), (p), (t); and 214(c) [8 U.S.C. 1103(a)(6); 1153(b)(3); 1182(a)(5)(A); 1182(n), (p), (t); and 1184(c)]; 8 CFR 214.2(h) and 20 CFR 655.10, 655.731, and 656.40.

This ICR, OMB Control No. 1205-0508, includes the collection of information required for ETA to determine the prevailing wages for job opportunities under the H-1B, H-1B1, E-3, H-2B, and permanent foreign labor certification programs. Prior to submitting foreign labor certification applications to the Department for the H-2B and permanent foreign labor certification programs, employers must obtain from ETA a prevailing wage for their job opportunities based on the occupation and location of intended employment. Employers may also request a prevailing wage for H-1B, H-1B1, and E-3 labor condition applications. The information ETA collects from employers on the Form ETA-9141, Application for Prevailing Wage Determination, serves as the basis by which the Secretary determines the prevailing wages employers must pay foreign workers under the above foreign labor certification programs to ensure employment of the foreign workers will not adversely affect the wages of similarly employed U.S. workers.

The proposed form changes include the reorganization of the form to better correspond with related forms for the temporary and permanent employment certification programs and the revision of the form to collect attorney or agent information and to collect alternative requirements in a standardized format. The proposed revisions will better align information collection requirements with the Department's current regulatory framework, provide greater clarity to employers on regulatory and procedural requirements, standardize and streamline information collection to reduce the employer's time and burden when preparing applications, and promote greater efficiency and transparency in prevailing wages determinations. The proposed changes to the instructions accompanying the form also provide more precise explanations of terminology to ensure the form is properly completed.

ETA is seeking comments on proposed revisions to Form ETA-9141 and the instructions accompanying this form. Also, ETA is seeking comments on its proposed implementation of a new appendix to the Form ETA-9141. The proposed Appendix A, Request for Additional Worksite(s), will provide employers with a standardized format to request prevailing wage determinations for additional worksites. Appendix A will enable ETA to more efficiently determine prevailing wages for job opportunities with additional worksites.

For details regarding the proposed revisions to this ICR, contact the office listed in the ADDRESSES section above.

II. Review Focus

The Department is particularly interested in comments that:

• Evaluate whether the proposed collection of information is necessary for the proper performance of the functions of the agency, including whether the information will have practical utility;

• Evaluate the accuracy of the agency's estimate of the burden of the proposed collection of information, including the validity of the methodology and assumptions used, and the agency's estimates associated with the annual burden cost incurred by respondents and the government cost associated with this collection of information;

• Enhance the quality, utility, and clarity of the information to be collected; and

• Minimize the burden of the collection of information on those who are to respond, including through the use of appropriate automated, electronic, mechanical, or other technological collection techniques or other forms of information technology, e.g., permitting electronic submissions of responses.

III. Current Actions

This revision request will allow ETA to meet its responsibilities under the INA pertaining to prevailing wages for job opportunities for which employers seek to hire and bring foreign workers into the United States to work under the H-1B, H-1B1, E-3, H-2B, and PERM programs.

This information collection is subject to the PRA. A federal agency generally cannot conduct or sponsor a collection of information, and the public is generally not required to respond to an information collection, unless it is approved by OMB under the PRA and displays a currently valid OMB control number. In addition, notwithstanding any other provisions of law, no person shall generally be subject to penalty for failing to comply with a collection of information that does not display a valid control number. See 5 CFR 1320.5(a) and 1320.6. The Department obtains OMB approval for this information collection under control number 1205-0508.

Title of Collection: Application for Prevailing Wage Determination.

Type of Review: Revision of a Currently Approved Information Collection.

OMB Control Number: 1205-0508.

Affected Public: Individuals or Households, Private Sector (businesses or other for-profit institutions), Not-for-profit Institutions, Federal Government, and State, Local, and Tribal governments.

Form(s): ETA-9141, Application for Prevailing Wage Determination; ETA-9141—Appendix A, Request for Additional Worksite(s).

Total Estimated Number of Annual Respondents: 88,599.

Annual Frequency: On Occasion.

Total Estimated Number of Annual Responses: 320,850.

Estimated Time per Response: Various.

Total Estimated Annual Time Burden: 143,194 hours.

Total Estimated Annual Other Costs Burden: $0.

Dated: February 4, 2019.
Molly E. Conway,
Acting Assistant Secretary, Employment and Training Administration.

[FR Doc. 2019-01941 Filed 2-11-19; 8:45 am]

BILLING CODE 4510-FP-P